ENVIRONMENTAL PROTECTION AGENCY

[EPA-HQ-SFUND-2005-0008; FRL-8786-2]

Agency Information Collection Activities; Submission to OMB for Review and Approval; Comment Request; Emergency Planning and Release Notification Requirements Under Emergency Planning and Community Right-to-Know Act Sections 302, 303, and 304 (Renewal); EPA ICR No. 1395.07, OMB Control No. 2050-0092

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 23, 2009.

ADDRESSES: Submit your comments, referencing Docket ID No. EPA-HQ-SFUND-2005-0008, to (1) EPA Online using http://www.regulations.gov (our preferred method), by e-mail to superfund.docket@epa.gov or by mail to: EPA Docket Center, Environmental Protection Agency, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Sicy Jacob, Office of Emergency Management, Mailcode 5104A, Environmental Protection Agency, 1200 Pennsylvania Ave., NW., Washington, DC 20460; telephone number: (202) 564-8019; fax number: (202) 564-2620; e-mail address: jacob.sicy@epa.gov.

SUPPLEMENTARY INFORMATION: EPA has submitted the following ICR to OMB for review and approval according to the procedures prescribed in 5 CFR 1320.12. On December 12, 2008 (73 FR 75706), EPA sought comments on this ICR pursuant to 5 CFR 1320.8(d). EPA received no comments. Any additional comments on this ICR should be submitted to EPA and OMB within 30 days of this notice.

EPA has established a public docket for this ICR under Docket ID No. EPA-HQ-SFUND-2005-0008, which is available for online viewing at http://www.regulations.gov, or in person viewing at the Superfund Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Superfund Docket is 202-566-1744.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Emergency Planning and Release Notification Requirements under Emergency Planning and Community Right-to-Know Act Sections 302, 303, and 304 (Renewal).

ICR numbers: EPA ICR No. 1395.07, OMB Control No. 2050-0092.

ICR Status: This ICR is scheduled to expire on May 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The authority for these requirements is sections 302, 303, and 304 of the Emergency Planning and Community Right-to-Know Act (EPCRA), 1986 (42 U.S.C. 11002, 11003, and 11004). EPCRA established broad emergency planning and facility reporting requirements. Section 302 requires facilities to notify their State emergency response commission (SERC) that the facility is subject to emergency planning. This activity has been completed; this ICR covers only new facilities that are subject to this requirement. Section 303 requires the local emergency planning committees (LEPCs) to prepare emergency plans for facilities that are subject to section 302. This activity has been also completed; this ICR only covers any updates needed for these emergency response plans. Section 304 requires facilities to report to SERCs and LEPCs releases in excess of the reportable quantities listed for each extremely hazardous substance (EHS). This ICR also covers the notification and the written follow-up required under this section. The implementing regulations and the list of substances for emergency planning and emergency release notification are codified in 40 CFR part 355.

On November 3, 2008 (73 FR 64452), EPA revised some of the requirements in 40 CFR part 355, specifically, the requirements related to emergency planning notification. EPA is now requiring facilities to notify their LEPC within 30 days of any changes occurring at the facility that may be relevant to emergency planning. This revision should not impose any additional burden on facilities subject to emergency planning. Prior to the November 3, 2008 final rule, facilities were required to provide any changes to the LEPC promptly. This final rule now requires facilities to provide any changes within 30 days. Other revisions finalized on November 3, 2008, do not impose any burden on facilities subject to section 302 and 304 requirements.

Burden Statement: The annual public reporting and recordkeeping burden for this collection of information is estimated to average 3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are those which have a threshold planning quantity of an extremely hazardous substance (EHS) listed in 40 CFR part 355, Appendix A and those which have a release of any of the EHS above a reportable quantity. Entities more likely to be affected by this action may include chemical manufacturers, non-chemical manufacturers, retailers, petroleum refineries, utilities, etc.

Estimated Number of Respondents: 98,456 (annual).

Frequency of Response: EPCRA section 302 reporting is a one-time notification unless there are changes to the reported information; EPCRA section 304 notification is only when a release occurs from the facility.

Estimated Total Annual Hour Burden: 295,756 hours.

Estimated Total Annual Cost: $13,134,444, including $68,719 annualized O&M costs. There are no capital costs associated with this ICR.

Changes in the Estimates: Based on the information received from the Regions, the number of facilities subject to section 302 increased by 18,080 from the previous ICR. EPA also noticed that the release notification calls to the National Response Center also increased by 10,502 from the previous ICR. EPA underestimated the burden incurred by facilities in developing written follow-up reports under section 304 in previous ICRs. In this ICR, EPA developed an average for the burden incurred to comply with section 304 reporting based on the information provided by industries that the Agency contacted.

Due to the reasons above, there is an increase of 112,409 hours in the estimated average annual burden in this ICR from what is currently approved.

Dated: March 18, 2009.
John Moses,
Acting Director, Collection Strategies Division.

[FR Doc. E9-6410 Filed 3-23-09; 8:45 am]

BILLING CODE 6560-50-P